DEPARTMENT OF ENERGY

Federal Energy Regulatory Commission

[Docket No. IC12-18-000]

Commission Information Collection Activities (FERC-500 and FERC-505); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collections Application for License/Relicense for Water Projects with Greater than 5 Megawatt Capacity (FERC-500), and Application for License/Relicense for Water Projects with 5 Megawatt or Less Capacity (FERC-505) to the Office of Management and Budget (OMB) for review of the information collection requirements. Any interested person may file comments directly with OMB and should address a copy of those comments to the Commission as explained below. The Commission published notices in the Federal Register (77 FR 56636, 9/13/2012, and 77 FR 73631, 12/11/2012) requesting public comments. FERC received no comments on the FERC-500 and FERC-505 for either notice and is making this notation in its submittal to OMB.

The Commission is issuing this 15-day public notice due to a change of the estimated burden figures. Upon further review, the Commission found that the previously approved burden estimates (i.e. the numbers presented here) should be used.

DATES: Comments on the collections of information are due by May 9, 2013.

ADDRESSES: Comments filed with OMB, identified by the OMB Control Nos. 1902-0058 (FERC-500) and/or 1902-0114 (FERC-505), should be sent via email to the Office of Information and Regulatory Affairs: oira_submission@omb.gov, Attention: Federal Energy Regulatory Commission Desk Officer. The Desk Officer may also be reached via telephone at 202-395-4718.

A copy of the comments should also be sent to the Federal Energy Regulatory Commission, identified by the Docket No. IC12-18-000, by one of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Titles: FERC-500: Application for License/Relicense for Water Projects with Greater than 5 Megawatt Capacity; FERC-505: Application for License/Relicense for Water Projects with 5 Megawatt or Less Capacity.

OMB Control Nos.: FERC-500 (1902-0058); FERC-505 (1902-0114).

Type of Request: 16 U.S.C. 797(e) authorizes the Commission to issue licenses to citizens of the United States for the purpose of constructing, operating, and maintaining dams, across, along, from, or within waterways over which Congress has jurisdiction. The Electric Consumers Protection Act amended the Federal Power Act to provide the Commission with the responsibility of issuing licenses for non-federal hydroelectric plants. 16 U.S.C. 797(e) also requires the Commission to give equal consideration to preserving energy conservation, the protection, mitigation of damage to, and enhancement of, fish and wildlife, the protection of recreational opportunities, and the preservation of other aspects of environmental quality when approving licenses. Finally, 16 U.S.C. 799 stipulates conditions upon which the Commission issues hydroelectric licenses.

The Commission requires all hydroelectric license applications to address a variety of environmental concerns. Many of these concerns address environmental requirements developed by other agencies. The applicants must provide facts in order for the Commission to understand and resolve potential environmental problems associated with the application in the interests of the United States public.

Types of Respondents: Non-federal hydroelectric plants greater than 5 megawatt capacity (FERC-500); non-federal hydroelectric plants 5 megawatts or less capacity (FERC-505).

Estimate of Annual Burden: ¹ The Commission estimates the total Public Reporting Burden for each information collection as:

¹ The Commission defines burden as the total time, effort, or financial resources expended by persons to generate, maintain, retain, or disclose or provide information to or for a Federal agency. For further explanation of what is included in the information collection burden, reference 5 Code of Federal Regulations 1320.3.

FERC—500 (IC12-18-000) Application for License/Relicense for Water Projects With Greater Than 5 Megawatt Capacity
| Number of respondents | Number of responses per respondent | Total number of responses | Average burden hours per response | Estimated total annual burden
| (A) | (B) | (A) * (B) = (C) | (D) | (C) * (D)
Non-federal hydroelectric plants greater than 5 megawatt capacity | 6 | 1 | 6 | 105,839.5 | 635,037

FERC—505 (IC12-18-000) Application for License/Relicense for Water Projects With 5 Megawatt or Less Capacity
| Number of respondents | Number of responses per respondent | Total number of responses | Average burden hours per response | Estimated total annual burden
| (A) | (B) | (A) * (B) = C | (D) | (C) * (D)
Non-federal hydroelectric plants 5 megawatts or less capacity | 16 | 1 | 16 | 3,674 | 58,782

FERC-500 total estimated annual cost burden to respondents is $43,823,659 [(635,037 hours ÷ 2080 hours/year ²) * $143,540/year ³ = $43,823,659]

² 2080 hours = 52 weeks * 40 hours per week (i.e. 1 year of full-time employment).

³ Average salary plus benefits per full-time equivalent employee.

FERC-505: total estimated annual cost burden to respondents is $4,056,523 [(58,782 hours ÷ 2080 hours/year) * $143,540/year = $4,056,523]

Comments: Comments are invited on: (1) Whether the collections of information are necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

Dated: April 16, 2013.
Kimberly D. Bose,
Secretary.

[FR Doc. 2013-09611 Filed 4-23-13; 8:45 am]

BILLING CODE 6717-01-P